DEPARTMENT OF ENERGY

Federal Energy Regulatory Commission

[Docket No. CP01-46-000]

National Fuel Gas Supply Corporation; Notice of Application

December 13, 2000.

Take notice that on December 7, 2000, National Fuel Gas Supply Corporation (National Fuel), 10 Lafayette Square, Buffalo, New York 14203, filed in Docket No. CP01-46-000 an application pursuant to Sections 7(c) and 7(b) of the Natural Gas Act for a certificate of public convenience and necessity to operate, on a permanent basis, certain facilities at its existing Holland Storage Field, Eric County, New York, and permission to abandon by sale 200,000 Mcf of base gas that is no longer required, all as more fully set forth in the application which is on file with the Commission and open to public inspection. This filing may be viewed on the web at http://www.ferc.fed.us./online/rims.htm (call (202) 208-2222 for assistance).

National Fuel states that Well 7395 and its associated well line, Line CW-7395, located in its Holland Storage Field, Eric County, New York, were completed in 1998 pursuant to 18 CFR 157.215 of the Commission's Regulations and National Fuel's Part 157 blanket certificate. National Fuel further states that the facilities were installed in order to test or develop the potential of the Holland Storage Field to turn more working gas and to restore the deliverability of the field. National Fuel maintains that based on its testing activities over the last three years, Well 7395 has restored 5,000 Mcf per day of deliverability on last day (base gas conditions) at the Holland Storage Field and will allow an additional 200,000 Mcf of active gas to be turned each year. National Fuel now requests permanent authorization to operate Well 7395 and associated Line CW-7395. In addition, National Fuel states that the amount of base gas required in the Holland Storage Field will decrease by 200,000 Mcf upon certification of Well 7395; therefore, National Fuel requests permission to abandon the 200,000 Mcf of base gas no longer needed.

Questions regarding the details of this application should be directed to David W. Reitz, Assistant General Counsel, National Fuel Gas Supply Corporation at (716) 857-7949, 10 Lafayette Square, Buffalo, New York 14203.

There are two ways to become involved in the Commission's review of this project. First, any person wishing to obtain legal status by becoming a party to the proceedings for this project should, on or before January 3, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 00-32263 Filed 12-18-00; 8:45 am]

BILLING CODE 6717-01-M